DEPARTMENT OF COMMERCE

National Oceanic and Atmospheric Administration

[RTID: 0648-XC511]

Endangered and Threatened Species; Take of Abalone

AGENCY: National Marine Fisheries Service (NMFS), National Oceanic and Atmospheric Administration (NOAA), Commerce.

ACTION: Notice; issuance of two scientific research and enhancement permits.

SUMMARY: Notice is hereby given that NMFS has issued two scientific research and enhancement permits (Permit 26342 and Permit 26606) to the University of California, Santa Cruz, under the Endangered Species Act (ESA). The research and enhancement activities are intended to increase knowledge of black abalone listed under the Endangered Species Act (ESA) and to help guide management, conservation, and recovery efforts.

ADDRESSES: The permits and related documents are available for review upon written request via email to nmfs.wcr-apps@noaa.gov. Please include the permit number (26342 or 26606) in the subject line of the email.

FOR FURTHER INFORMATION CONTACT: Susan Wang, Long Beach, California, Phone: 562-980-4199, email: Susan.Wang@noaa.gov.

SUPPLEMENTARY INFORMATION: Notice was published in the Federal Register on May 18, 2022, that two new permit requests had been submitted by the University of California, Santa Cruz. To locate the Federal Register notice that announced our receipt of the applications and a complete description of the research, go to www.federalregister.gov and search on the permit numbers and Federal Register notice information provided in the table below.

Table 1—Issued Permits
Permit No. | RTID | Applicant | Previous Federal Register notice | Issuance date
26342 | 0648-XC035 | University of California, Santa Cruz—100 Shaffer Road, Santa Cruz, CA 95060 (Responsible Party: Peter Raimondi) | 87 FR 30207; May 18, 2022 | October 6, 2022.
26606 | 0648-XC035 | University of California, Santa Cruz—100 Shaffer Road, Santa Cruz, CA 95060 (Responsible Party: Peter Raimondi) | 87 FR 30207; May 18, 2022 | October 6, 2022.

In compliance with the National Environmental Policy Act of 1969 (42 U.S.C. 4321 et seq.), NMFS prepared an environmental assessment (EA) for Permit 26342 and concluded that there will be no significant impact on the human environment as a result of the activities proposed under this permit. A copy of the EA is available on the NMFS website (www.fisheries.noaa.gov). In addition, NMFS determined that the activities proposed under Permit 26606 are categorically excluded from the requirement to prepare an EA or environmental impact statement.

Authority

Scientific research permits are issued in accordance with section 10(a)(1)(A) of the ESA (16 U.S.C. 1531 et seq.) and regulations governing listed fish and wildlife permits (50 CFR 222-226). NMFS issues permits based on finding that such permits: (1) are applied for in good faith; (2) if granted and exercised, would not operate to the disadvantage of the listed species that are the subject of the permit; and (3) are consistent with the purposes and policy of section 2 of the ESA. The authority to take listed species is subject to conditions set forth in the permits.

Dated: October 31, 2022.
Angela Somma,
Chief, Endangered Species Division, Office of Protected Resources, National Marine Fisheries Service.

[FR Doc. 2022-23970 Filed 11-2-22; 8:45 am]

BILLING CODE 3510-22-P